DEPARTMENT OF TRANSPORTATION

Federal Aviation Administration

Public Notice for Waiver of Aeronautical Land-use Assurance; Seymour (Freeman) Municipal Airport, Seymour, IN

AGENCY: Federal Aviation Administration, DOT.

ACTION: Notice of intent of waiver with respect to land.

SUMMARY: The Federal Aviation Administration (FAA) is considering a proposal to change a portion of airport land from aeronautical use to non-aeronautical use at the Seymour (Freeman) Field Municipal Airport in Seymour, Indiana. The proposal consists of 871 acres located outside of the fenced in portion of airport property. This land is currently being farmed. The entire 871 acres is part of Quitclaim Deed from the United States Department of Defense in 1941. It is the intent of the Seymour Airport Authority, as owner and operator of Seymour (Freeman) Municipal Airport (SER) to lease or sell the entire 871 acres as an industrial park. This notice announces that the FAA is considering the release of the subject airport property at Seymour (Freeman) Municipal Airport, from all federal land covenants. Approval does not constitute a commitment by the FAA to financially assist in disposal of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before April 12, 2012.

FOR FURTHER INFORMATION CONTACT: Benjamin Mello, Program Manager, 2300 East Devon Avenue, Des Plaines, IL 60018. Telephone Number 847-294-7195/FAX Number 847-294-7046. Documents reflecting this FAA action may be reviewed at this same location by appointment or at the Seymour (Freeman) Municipal Airport, 1025 A Avenue, Seymour (Freeman) Municipal Airport, Seymour, Indiana 47274.

SUPPLEMENTARY INFORMATION: Following is a legal description of the properties being released located in Seymour, Jackson County, Indiana, and described as follows:

Sections 25 and Section 36

A part of Sections 25 and Section 36 all in Township 6 North, Range 5 East, in Jackson County, Indiana, and being a part of the real estate conveyed to Seymour Aviation Commission by quitclaim deed recorded in Deed Record 93, page 405, Office of the Recorder, Jackson County, described as follows: Beginning at the Southwest corner of said Section 25; thence North 0 degrees 55 minutes and 15 seconds West (assumed bearing) 2,579.80 feet along the west line of said section to the Runway Protection Zone (RPZ) northwest of Runway 15-33; thence South 54 degrees 16 minutes 48 seconds East 370.95 feet along the said RPZ to a point that is 400.00 feet southwesterly at right angles from the centerline of Runway 15-33 feet; thence South 45 degrees 44 minutes 58 seconds East 5,252.11 feet parallel with and 400.00 feet southwesterly of the centerline of Runway 15-33; thence South 28 degrees 40 minutes 22 seconds East 766.96 feet to a point that is 640.00 feet northwesterly at right angles from the centerline of Runway 5-23 feet; thence South 44 degrees 14 minutes 11 seconds West 2,080.11 feet parallel with and 640 feet northwesterly of the centerline of Runway 5-23 to the RPZ southwest of Runway 5-23; thence South 52 degrees 46 minutes 02 seconds West 1,584.19 feet along said RPZ; thence South 45 degrees 45 minutes 49 seconds East 1,173.63 feet along said RPZ to the south line of said Section 36; thence South 88 degrees 06 minutes 07 seconds West 2,465.34 feet along said south line to the Southwest corner of said Section 36; thence North 0 degrees 35 minutes 00 seconds West 5,324.46 feet along the west line of said Section 36 to the point of beginning and containing 81.466 acres, more or less, in Section 25 and 380.063 acres, more or less, in Section 36. Said parcel contains 461.529 acres more or less.

Section 31

A part of Section 31, Township 6 North, Range 6 East, and a part of Section 36, Township 6 North, Range 5 East, in Jackson County, Indiana, and being a part of the real estate conveyed to Seymour Aviation Commission by quitclaim deed recorded in Deed Record 93, page 405, Office of the Recorder, Jackson County, described as follows: Beginning at the Southeast Corner of said Section 31; thence North 1 degree 21 minutes and 10 seconds West (assumed bearing) 1,040.88 feet on and along the east line of said Section 31; thence North 75 degrees 13 minutes 08 seconds West 1,251.03 feet; thence North 0 degrees 59 minutes 40 seconds West 1,825.34 feet; thence North 88 degrees 35 minutes 21 seconds East 841.17 feet; thence North 6 degrees 34 minutes 33 seconds East 968.67 feet; thence South 89 degrees 38 minutes 53 seconds West 2,598.83 feet to a point that is 850,00 feet southeasterly at right angles from the centerline of Runway 5-23; thence South 44 degrees 14 minutes 11 seconds West 833.80 feet parallel with and 850 feet southeasterly of the centerline of Runway 5-23; thence South 45 degrees 45 minutes 49 seconds East 75,00 feet to a point 925.00 feet southeasterly at right angles from the centerline of Runway 5-23; thence South 44 degrees 14 minutes 11 seconds West 1,131.87 feet parallel with and 925 feet southeasterly of the centerline of Runway 5-23 to a point that is 400 feet northeasterly at right angles to the centerline of Runway 15-33; thence South 45 degrees 44 minutes 58 seconds East 350.00 feet parallel with and 400 feet northeasterly of the centerline of Runway 15-33 to the Runway Protection Zone (RPZ) southeast of Runway 15-33; thence South 54 degrees 16 minutes 48 seconds East 707.83 feet along the said RPZ; thence South 44 degrees 15 minutes 02 seconds West 1,010.00 feet along said RPZ; thence North 37 degrees 13 minutes 07 seconds West 707.83 feet along said RPZ to a point that is 400 feet southwesterly at right angles to the centerline of Runway 15-33; thence North 45 degrees 44 minutes 58 seconds West 634.80 feet parallel with and 400 feet southwesterly of the centerline of Runway 15-33 to a point that is 640 feet southeasterly at right angles from the Centerline of Runway 5-23; thence South 44 degrees 14 minutes 11 seconds West 2,305.01 feet parallel with and 640 feet southeasterly of the centerline of Runway 5-23 to the RPZ southwest of Runway 5-23; thence South 35 degrees 42 minutes 21 seconds West 1,059.69 feet along said RPZ to the south line of said Section 36; thence North 88 degrees 06 minutes 07 seconds East 2,088.04 feet along said south line to the Southeast corner of said Section 36; thence North 88 degrees 35 minutes 41 seconds East 5,133.75 feet along the south line of said Section 31 to the point of beginning and containing 351.231 acres, more or less, in Section 31 and 58.105 acres, more or less, in Section 36. Said parcel contains 409.336 acres, more or less.

Issued in Des Plaines, Illinois on, March 2, 2012.
Richard Kula,
Acting Manager, Chicago Airports District Office FAA, Great Lakes Region.

[FR Doc. 2012-6012 Filed 3-12-12; 8:45 am]

BILLING CODE 4910-13-P